DEPARTMENT OF THE INTERIOR

National Park Service

Notice of Availability for the Draft White-Tailed Deer Management Plan/Environmental Impact Statement, Indiana Dunes National Lakeshore, IN

AGENCY: National Park Service.

ACTION: Notice of Availability for the Draft White-tailed Deer Management Plan/Environmental Impact Statement, Indiana Dunes National Lakeshore, Indiana.

SUMMARY: Pursuant to Section 102(2)(C) of the National Environmental Policy Act of 1969 (42 U.S.C. 4332(2)(C)), the National Park Service (NPS) announces the availability of a draft White-tailed Deer Management Plan and Environmental Impact Statement (EIS) for Indiana Dunes National Lakeshore, Indiana (Lakeshore).

DATES: The draft EIS will remain available for public review for 60 days following the publishing of the notice of availability in the Federal Register by the U.S. Environmental Protection Agency. A public meeting will be held during the 60-day review period, but the specific date and location will be announced in local and regional media sources of record and on the Lakeshore Web site.

You may submit your comments by any one of several methods. You may comment via the Internet through the NPS Planning, Environment, and Public Comment Web site (http://parkplanning.nps.gov/indu); simply click on the link to the White-tailed Deer Management Plan. You may mail comments to Superintendent Constantine Dillon, Indiana Dunes National Lakeshore, 1100 North Mineral Springs Road, Porter, Indiana 46304. You may send comments by facsimile to 219-395-1550. Finally, you may hand-deliver comments to the Lakeshore headquarters at the address above.

ADDRESSES: Copies of the draft EIS are available from the Superintendent, Indiana Dunes National Lakeshore, 1100 North Mineral Springs Road, Porter, Indiana 46304.

SUPPLEMENTARY INFORMATION: This EIS and plan describes four alternatives for the management of deer at the Lakeshore. Action is needed at this time to ensure that the local deer population does not become a dominant force that negatively influences ecosystem components within the Lakeshore, such as sensitive vegetation or other wildlife. Impacts to these Lakeshore resources would compromise the Lakeshore's purpose to preserve the exceptional biodiversity found within its boundaries. The Lakeshore staff currently implements resource management actions to protect other resources but no specific deer management plan exists.

Under Alternative A (no action), current deer management actions (including limited fencing, limited use of repellents, and inventorying and monitoring efforts) would continue; no new deer management actions would be taken. Alternative B would include all actions described under alternative A, but would also incorporate non-lethal actions to possibly reduce deer numbers in the Lakeshore. The additional actions would include the construction of additional small- and new large-scale exclosures, more extensive use of repellents in areas where fenced exclosures would not be appropriate or feasible, and phasing in reproductive control of does when there is a federally approved fertility control agent for application to free-ranging populations that provides multi-year (more than four years) efficacy for does. Alternative C would include all actions described under alternative A, but would also incorporate a direct reduction of the deer herd size through sharpshooting and capture/euthanasia, where appropriate. Alternative D would also include all the actions described under alternative A, but would incorporate a combination of specific lethal and non-lethal actions from alternatives B and C. These actions would include the reduction of the deer herd through sharpshooting, in combination with capture/euthanasia and phasing in reproductive control of does (as described in alternative B) for longer-term maintenance of lower herd numbers when there is a federally approved fertility control agent for application to free-ranging populations that provides multi-year (more than four years) efficacy for does.

The potential environmental consequences of the alternatives are addressed for vegetation, soils and water quality, white-tailed deer, other wildlife and wildlife habitat, sensitive and rare species, archeological resources, cultural landscapes, visitor use and experience, social values, visitor and employee health and safety, soundscapes, socioeconomic conditions, and national Lakeshore management and operations.

FOR FURTHER INFORMATION CONTACT: Contact Superintendent Dillon at the address above or by telephone at 219-926-7561.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: October 20, 2008.
Ernest Quintana,
Director, Midwest Region.

Editorial Note: This document was received in the Office of the Federal Register on January 26, 2009.

[FR Doc. E9-1887 Filed 1-28-09; 8:45 am]

BILLING CODE 4310-FH-P